FEDERAL COMMUNICATIONS COMMISSION

47 CFR Parts 6 and 7

[WT Docket No. 96-198; DA 01-2730]

Access to Telecommunications Service, Telecommunications Equipment and Customer Premises Equipment by Persons With Disabilities

AGENCY: Federal Communications Commission.

ACTION: Final rule; announcement of effective date.

SUMMARY: This document announces the deadline by which providers of telecommunications services and manufacturers of telecommunications equipment and customer premises equipment must provide the Commission with the designation of an agent on whom service may be made of all notices, inquiries, orders, decisions, and other pronouncements of the Commission. Each provider and manufacturer must inform the Commission of its designation of an agent by January 31, 2002. The designation must include the agent's name or department designation, business address, telephone number, TTY number (if available), facsimile number, and Internet e-mail address.

DATES: The amendment to 47 CFR Part 6.18 and 7.18 published at 64 FR 63235 (November 19, 1999) will become effective January 31, 2002.

FOR FURTHER INFORMATION CONTACT: Jenifer Simpson (202) 418-0008 (voice), (202) 418-0034 (TTY) or Dana Jackson (202) 418-2247 (voice), (202) 418-7898 (TTY), Disabilities Rights Office, Consumer Information Bureau.

SUPPLEMENTARY INFORMATION: This designation of agent must be filed with the Commission's Secretary, Magalie Salas, Office of the Secretary, 445 12th Street, SW, Room TW-A325, Washington, DC, 20554. An additional copy should be sent to the Disabilities Rights Office, Consumer Information Bureau, Room 5-A741, 445 12th Street, SW, Washington, DC, 20554, Attn: Dana Jackson. We intend to continue posting the required information on the FCC's web site within the Consumer Information Bureau (CIB) and administering the posting within CIB's Disabilities Rights Office. Contact information for manufacturers is posted at http://www.fcc.gov/cib/dro/section255_manu.html; contact information for service providers is posted at http://www.fcc.gov/cib/dro/service_providers.html; and contact information for affected colleges and universities is posted at http://www.fcc.gov/cib/dro/section255_colleges.html.

This document is available to individuals with disabilities requiring accessible formats (electronic ASCII text, Braille, large print and audio) by contacting Brian Millin at (202) 418-7426 (voice), (202) 418-7365 (TTY), or by sending an email to fccinfo@fcc.gov.

On September 29, 1999, the Commission released a Report and Order and Further Notice of Inquiry (RO/FNOI) adopting a framework for implementing Section 255 of the Communications Act of 1934, as amended, which requires telecommunications equipment manufacturers and service providers to ensure that their equipment and services are accessible to persons with disabilities, to the extent that it is readily achievable to do so. A summary of this RO/FNOI was published in the Federal Register. See 64 FR 63277; 64 FR 63235.

Among the new rules is a requirement that equipment manufacturers and service providers each designate an agent for service of informal and formal complaints received by the Commission. This rule entails information collection requirements, and in the RO/FNOI, the Commission stated that “some of the information collection requirements in this Report and Order are contingent on approval by OMB,” including the designation of agent requirement. The information collection was approved by OMB on October 29, 2001. See OMB No. 3060-0833. This publication announces the effective date of the Commission's requirement that equipment manufacturers and service providers subject to the requirements of Section 255 of the Act designate an agent upon whom service may be made of all notices, inquiries, orders, decisions, and other pronouncements of the Commission in any matter before the Commission. The designation shall include, for both the manufacturer and the provider, a name or department designation, business address, telephone number, and if available, TTY number, facsimile number, and Internet e-mail address. More information on this subject can be found in the Commission's Public Notice, DA 01-2730, released December 19, 2001.

Federal Communications Commission.
Thomas D. Wyatt,
Associate Chief (Operations), Consumer Information Bureau.

[FR Doc. 01-32243 Filed 1-4-02; 8:45 am]

BILLING CODE 6712-01-P